Executive Order 14073 of May 4, 2022

Enhancing the National Quantum Initiative Advisory Committee

By the authority vested in me as President by the Constitution and the laws of the United States of America, including section 104(a) of the National Quantum Initiative Act (Public Law 115-368) (NQI Act), and section 301 of title 3, United States Code, and in order to ensure continued American leadership in quantum information science and its technology applications, it is hereby ordered as follows:

Section 1. Purpose. Quantum information science (QIS) can enable transformative advances in knowledge and technology for industry, academia, and government. Accordingly, the National Quantum Initiative (NQI), which aims to ensure the continued leadership of the United States in QIS and its technology applications, is a substantial and sustained national priority. The NQI Program, established pursuant to section 101 of the NQI Act, encompasses contributions from across the Federal Government, as exemplified by the QIS research, development, demonstration, and training activities pursued by executive departments and agencies (agencies) with membership on either the National Science and Technology Council (NSTC) Subcommittee on Quantum Information Science (SCQIS) or the NSTC Subcommittee on Economic and Security Implications of Quantum Science (ESIX).

Sec. 2. Establishment. (a) To ensure that the NQI Program and the Nation are informed by evidence, data, and perspectives from a diverse group of experts and stakeholders, the National Quantum Initiative Advisory Committee (Committee) is hereby established. Consistent with the NQI Act, the Committee shall advise the President, the SCQIS, and the ESIX on the NQI Program.

(b) The Committee shall consist of the Director of the Office of Science and Technology Policy (Director) or the Director's designee and not more than 26 members, appointed by the President, who are United States citizens representative of industry, universities, and Federal laboratories, and who are qualified to provide advice and information on QIS and technology research, development, demonstrations, standards, education, technology transfer, commercial application, or national security and economic concerns.

(c) The Committee shall have two Co-Chairs. The Director or the Director's designee shall serve as one Co-Chair of the Committee. The President shall designate another Co-Chair from among the appointed members to serve as Co-Chair with the Director.

Sec. 3. Functions. (a) The Committee shall advise the President and the SCQIS and the ESIX (Subcommittees) and make recommendations for the President to consider when reviewing and revising the NQI Program. The Committee shall also carry out all responsibilities set forth in section 104 of the NQI Act.

(b) The Committee shall meet at least twice a year and shall:

(i) respond to requests from the President or the Co-Chairs of the Committee for information, analysis, evaluation, or advice relating to QIS and its technology applications;

(ii) solicit information and ideas from a broad range of stakeholders on QIS, including the research community, the private sector, academia, national laboratories, agencies, State and local governments, foundations, and nonprofit organizations;

(iii) review the national strategy for QIS; and

(iv) respond to requests from the Subcommittees.

Sec. 4. Administration. (a) The heads of agencies shall, to the extent permitted by law, provide the Committee with information concerning QIS and its technology applications when requested by a Committee Co-Chair.

(b) The Co-Chairs of the Committee may establish standing subcommittees and ad hoc groups, including technical advisory groups, to assist and provide information to the Committee.

(c) The Director may request that members of the Committee, standing subcommittees, or ad hoc groups who do not hold a current clearance for access to classified information receive appropriate clearances and access determinations pursuant to Executive Order 13526 of December 29, 2009 (Classified National Security Information), as amended, or any successor order.

(d) The National Quantum Coordination Office shall provide technical and administrative support to the Committee, pursuant to section 102(b) of the NQI Act.

(e) Committee members shall serve without any compensation for their work on the Committee, but may receive travel expenses, including per diem in lieu of subsistence, as authorized by law for persons serving intermittently in the Government service (5 U.S.C. 5701-5707).

Sec. 5. Revocation. Executive Order 13885 of August 30, 2019 (Establishing the National Quantum Initiative Advisory Committee), is hereby revoked.

Sec. 6. General Provisions. (a) Insofar as the Federal Advisory Committee Act, as amended (5 U.S.C. App.) (FACA), may apply to the Committee, any functions of the President under the FACA, except for those in section 6 of the FACA, shall be performed by the Secretary of Energy, in consultation with the Director, in accordance with the guidelines and procedures established by the Administrator of General Services.

(b) Nothing in this order shall be construed to impair or otherwise affect:

(i) the authority granted by law to an executive department or agency, or the head thereof; or

(ii) the functions of the Director of the Office of Management and Budget relating to budgetary, administrative, or legislative proposals.

(c) This order shall be implemented consistent with applicable law and subject to the availability of appropriations.

(d) This order is not intended to, and does not, create any right or benefit, substantive or procedural, enforceable at law or in equity by any party against the United States, its departments, agencies, or entities, its officers, employees, or agents, or any other person.

THE WHITE HOUSE,

May 4, 2022.

[FR Doc. 2022-10076

Filed 5-6-22; 11:15 am]

Billing code 3395-F2-P